ENVIRONMENTAL PROTECTION AGENCY

EPA-HQ-OPPT-2007-0817; FRL-8144-7

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from April 29, 2007 to August 3, 2007, consists of the PMNs and TMEs, both pending or expired, and the notices of commencement to manufacture a new chemical that the Agency has received under TSCA section 5 during this time period.

DATES: Comments identified by the specific PMN number or TME number, must be received on or before September 21, 2007.

ADDRESSES: Submit your comments, identified by docket identification (ID) number EPA-HQ-OPPT-2007-0817, by one of the following methods.

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID number EPA-HQ-OPPT-2007-0817. The DCO is open from 8 a.m. to 4 p.m., Monday through Friday, excluding legal holidays. The telephone number for the DCO is (202) 564-8930. Such deliveries are only accepted during the Docket's normal hours of operation, and special arrangements should be made for deliveries of boxed information.

Instructions: Direct your comments to docket ID number EPA-HQ-OPPT-2007-0817. EPA's policy is that all comments received will be included in the public docket without change and may be made available online at http://www.regulations.gov, including any personal information provided, unless the comment includes information claimed to be Confidential Business Information (CBI) or other information whose disclosure is restricted by statute. Do not submit information that you consider to be CBI or otherwise protected through regulations.gov or e-mail. The regulations.gov website is an “anonymous access” systems, which means EPA will not know your identity or contact information unless you provide it in the body of your comment. If you send an e-mail comment directly to EPA without going through http://regulations.gov your e-mail address will be automatically captured and included as part of the comment that is placed in the public docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the docket's index available in regulations.gov. To access the electronic docket, go to http://www.regulations.gov, select “Advanced Search,” then “Docket Search.” Insert the docket ID number where indicated and select the “Submit” button. Follow the instructions on the regulations.gov web site to view the docket index or access available documents. Although listed in the index, some information is not publicly available, e.g., Confidential Business Information (CBI) or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC PublicReading Room hours of operation are 8:30 a.m. to 4:30 p.m., Monday through Friday, excluding Federal holidays. The telephone numberof the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: Colby Lintner, Regulatory Coordinator, Environmental Assistance Division, Office of Pollution Prevention and Toxics (7408M), Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed CBI). In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket number and other identifying information (subject heading, Federal Register date and page number).

ii. Follow directions - The agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at the estimate.

vi. Provide specific examples to illustrate your concerns, and suggested alternatives.

vii. Explain your views as clearly as possible, avoiding the use of profanity or personal threats.

viii. Make sure to submit your comments by the comment period deadline identified.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from April 29, 2007 to August 3, 2007, consists of the PMNs and TMEs, both pending or expired, and the notices of commencement to manufacture a new chemical that the Agency has received under TSCA section 5 during this time period.

III. Receipt and Status Report for PMNs and TMEs

This status report identifies the PMNs and TMEs, both pending or expired, and the notices of commencement to manufacture a new chemical that the Agency has received under TSCA section 5 during this time period. If you are interested in information that is not included in the following tables, you may contact EPA as described in Unit II. to access additional non-CBI information that may be available.

In Table I of this unit, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 193 Premanufacture Notices Received From: 04/27/07 to 08/03/07
Case No | Received Date | Projected Notice End Date | Manufacturer/Importer | Use | Chemical
P-07-0410 | 04/30/07 | 07/28/07 | CBI | (G) Intermediate | (G) Laureth maleate
P-07-0411 | 05/01/07 | 07/29/07 | CBI | (G) Open non-dispersive (elastomer) | (G) Mdi prepolymer
P-07-0412 | 05/01/07 | 07/29/07 | Nippon Gohsei USA Company, Ltd. | (G) Ink additive | (G) 2-propenoic acid, 2- methyl-, polymer with 2-ethylhexyl 2-propenoate, methyl 2-methyl-2-propanoate, substituted-1-propanesulfonic acid and 2-methyl-2-propenamide
P-07-0413 | 05/02/07 | 07/30/07 | Boulder Scientific Company | (S) Chemical intermediate | (S) Phenol, 2-bromo-4-methyl-
P-07-0414 | 05/02/07 | 07/30/07 | CBI | (G) Catalyst intermediate | (G) Alkyl heteroalkyl chloride
P-07-0415 | 05/02/07 | 07/30/07 | Dover Chemical Corporation | (S) Lubricant additive used in industrial lubricants and metalworking fluids | (S) Soybean oil, nitrated
P-07-0416 | 05/03/07 | 07/31/07 | CBI | (G) Fabric performance treatment | (G) Aziridine homopolymer derivative
P-07-0417 | 05/04/07 | 08/01/07 | Plextronics, Inc. | (S) For use as a component in inks that will function as an active layer in printed electronic devices | (G) Modified thiophene polymer
P-07-0418 | 05/04/07 | 08/01/07 | CBI | (G) Synthetic lubricant base stock | (G) Hydrogenated polyalphaolefins
P-07-0419 | 05/04/07 | 08/01/07 | CBI | (G) Synthetic lubricant base stock | (G) Hydrogenated polyalphaolefins
P-07-0420 | 05/04/07 | 08/01/07 | CBI | (G) Synthetic lubricant base stock | (G) Hydrogenated polyalphaolefins
P-07-0421 | 05/04/07 | 08/01/07 | CBI | (G) Synthetic lubricant base stock | (G) Hydrogenated polyalphaolefins
P-07-0422 | 05/04/07 | 08/01/07 | CBI | (S) Waterborne flooring applications; waterborne epoxy coatings | (G) Phenol, 4,4′-(1-methylethylidene)bis-, polymer with 2-(chloromethyl)oxirane and a polyol, reaction products with 5-amino-1,3,3-trimethylcyclohexanemethanamine derivatives, an aromatic alkyl amine and an alkyl amine
P-07-0423 | 05/04/07 | 08/01/07 | CBI | (G) Component of paint | (G) Acrylic polymer with styrene and polyethylene glycol methyl ether methacrylate
P-07-0424 | 05/04/07 | 08/01/07 | CBI | (G) Component of adhesive | (G) Acrylic polymer with vinyl acetate and acrylonitrile
P-07-0425 | 05/07/07 | 08/04/07 | CBI | (G) Open non-dispersive (resin) | (G) Mdi polyether prepolymer
P-07-0426 | 05/07/07 | 08/04/07 | CBI | (G) Open non-dispersive (resin) | (G) Mdi polyester prepolymer
P-07-0427 | 05/07/07 | 08/04/07 | CBI | (G) Open non-dispersive (resin) | (G) Mdi polyester prepolymer
P-07-0428 | 05/07/07 | 08/04/07 | Boulder Scientific Company | (S) Catalytic reaction component | (S) 1,2-cyclohexanediamine, (1r,2r)-rel-
P-07-0429 | 05/07/07 | 08/04/07 | CBI | (G) Additive for water-soluble ink. | (G) Substituted propenoic acid polymer with substituted bisethanol and substituted cyclohexane
P-07-0430 | 05/08/07 | 08/05/07 | The Dow Chemical Company | (G) Component of electrical laminates | (G) Brominated epoxy novolac
P-07-0431 | 05/04/07 | 08/01/07 | CBI | (G) Polyester fiber | (G) Ncs 1: Modified polyethylene terephthalate
P-07-0432 | 05/04/07 | 08/01/07 | CBI | (G) Polyester fiber | (G) Ncs 2: Modified polyethylene terephthalate
P-07-0433 | 05/08/07 | 08/05/07 | CBI | (G) Catalyst | (G) Alkyl heteroaryl chloroaluminate
P-07-0434 | 05/09/07 | 08/06/07 | Ticona | (G) Non-woven | (G) Copolymer of 2,6-naphthalenedicarboxylic acid dialkyl ester and alkylene diol
P-07-0435 | 05/11/07 | 08/08/07 | CBI | (G) Coating resin for open, non-dispersive use | (G) Copolymer of acrylic acrylates, methacrylates and acid
P-07-0436 | 05/11/07 | 08/08/07 | CBI | (S) Solder mask for printed circuit board preparation | (G) 2-propenoic acid, 2-methyl-, oxiranylmethyl ester, polymer with 3-hydroxy-2-(hydroxymethyl)-2-methylpropanoic acid, an alkyl polyol and an aliphatic isocyanate
P-07-0437 | 05/11/07 | 08/08/07 | CBI | (G) Defoamer | (G) Siloxanes and silicones, di-alkyl, chlorine-terminated, polymers with 2-ethylhexyl acrylate-polyoxyalkylene glycol reaction products, polyoxyalkylene glycol mono-alkyl ether-terminated
P-07-0438 | 05/11/07 | 08/08/07 | CBI | (G) Polyol component in polyester resin synthesis - destructive use | (G) Polyester polyol
P-07-0439 | 05/11/07 | 08/08/07 | CBI | (G) Dispersant | (G) Polycarboxylate, modified sodium salt
P-07-0440 | 05/14/07 | 08/11/07 | CBI | (S) Alkylamino zirconium salt used in Chemical vapor deposition methods during the manufacture or processing of semiconductors | (G) Alkylamino zirconium salt
P-07-0441 | 05/15/07 | 08/12/07 | CBI | (G) Chemical manufacturing intermediate | (G) Glycerides, alkyl
P-07-0442 | 05/15/07 | 08/12/07 | CBI | (G) Coating raw material | (G) Alkenoic acid, hydroxyalkyl ester, polymer with alkyl diisocyanate
P-07-0443 | 05/15/07 | 08/12/07 | CBI | (G) Dispersant for inorganic materials | (G) Methacrylate copolymer with phosphinicobis methacrylate and 2-(phosphonooxy) ethyl 2-methyl-2-propenoate, sodium salt, peroxydisulfuric acid ([ho)s(o)2]2o2) diammonium salt-initiated
P-07-0444 | 05/16/07 | 08/13/07 | CBI | (S) Compatibilizer for flame retardant for plastics | (G) Surface modified aluminum hydroxide
P-07-0445 | 05/17/07 | 08/14/07 | CBI | (G) Tile surface treatment | (G) Fluoroalkyl methacrylate copolymer
P-07-0446 | 05/17/07 | 08/14/07 | CBI | (G) Paper treatment additive | (G) Fluoroalkyl acrylate copolymer
P-07-0447 | 05/17/07 | 08/14/07 | CBI | (G) Textile treatment additive | (G) Fluoroalkyl acrylate copolymer
P-07-0448 | 05/18/07 | 08/15/07 | CBI | (G) Reactant in thermoset coating; degree of containment - (c) open, non-dispersive use | (G) Secondary amine adduct
P-07-0449 | 05/18/07 | 08/15/07 | Cytec Industries Inc. | (S) Wetting agent for industrial coatings | (G) Substituted heterocycle, polymer with diisocyanate, substituted cyclic diamine and substituted heterocycle, alkyl ester
P-07-0450 | 05/18/07 | 08/15/07 | Vitech International Inc. | (S) Organic salt for dissolving inorganic salts | (G) Urea, salt
P-07-0451 | 05/21/07 | 08/18/07 | CBI | (G) Polyol component in polyester resin synthesis - destructive use | (G) Polyester polyol
P-07-0452 | 05/22/07 | 08/19/07 | CBI | (G) Coatings and inks | (G) Acrylate ester
P-07-0453 | 05/22/07 | 08/19/07 | CBI | (G) An open non-dispersive use | (G) Halide salt of an alkylamine
P-07-0454 | 05/22/07 | 08/19/07 | CBI | (G) An open non-dispersive use | (G) Alkyl amine
P-07-0455 | 05/22/07 | 08/19/07 | CBI | (G) An open non-dispersive use | (G) Alkyl amidoamine
P-07-0456 | 05/22/07 | 08/19/07 | CBI | (G) An open non-dispersive use | (G) Alkylamine
P-07-0457 | 05/24/07 | 08/21/07 | CBI | (G) Industrial ink additive | (G) Maleic modified soybean oil alkyd
P-07-0458 | 05/24/07 | 08/21/07 | CBI | (G) Thermoset resin | (G) Bismaleimide resin
P-07-0459 | 05/24/07 | 08/21/07 | Huntsman International, LLC | (S) Moisture management agent for cotton and synthetic fabrics | (G) Quarternized polyether modified aminomodified substituted polysiloxane
P-07-0460 | 05/25/07 | 08/22/07 | CBI | (G) Monomer | (G) Polyoxyethylene alkyl ether phosphate
P-07-0461 | 05/25/07 | 08/22/07 | CBI | (G) Quality control additive | (G) Derivative of a salt of a polymer of styrene, substituted methacrylic acid and an alkyl acrylate
P-07-0462 | 05/29/07 | 08/26/07 | CBI | (G) Component of foam | (G) Fatty acid polymer with aliphatic diol and aromatic diacid
P-07-0463 | 05/29/07 | 08/26/07 | CBI | (G) Component of foam | (G) Fatty acid polymer with aliphatic diol and aromatic diacid
P-07-0464 | 05/29/07 | 08/26/07 | CBI | (G) Component of foam | (G) Fatty acid polymer with aliphatic diol and aromatic diacid
P-07-0465 | 05/30/07 | 08/27/07 | Byk-Chemie USA Inc. | (S) Additive for coatings | (G) Siloxanes coated alumina nanoparticles
P-07-0466 | 05/30/07 | 08/27/07 | Byk-chemie USA Inc. | (S) Additive for coatings | (G) Siloxane coated silica nanoparticles
P-07-0467 | 05/30/07 | 08/27/07 | CBI | (G) Corrosion inhibitor for oilfield use | (G) Reaction product of a substituted pyridine, paraformaldehyde, hydrochloric acid, and an alkylamine
P-07-0468 | 05/30/07 | 08/27/07 | The Dow Chemical Company | (G) Component of electrical laminates | (G) Brominated epoxy novolac
P-07-0469 | 05/24/07 | 08/21/07 | J.M. Huber Corporation | (S) Flame retardant | (G) Magnesium hydroxide surface treated
P-07-0470 | 05/31/07 | 08/28/07 | CBI | (G) Cosolvent | (G) Alkyl cycloether
P-07-0471 | 06/01/07 | 08/29/07 | CBI | (G) Use: Spray-applied paint; degree of containment: Open, non-dispersive | (G) Carbomonocylic dicarboxylic acid polymer containing trimethyl substituted alkane diol and 1,6-hexanediol
P-07-0472 | 06/01/07 | 08/29/07 | GE water and process technologies | (G) Industrial primary wastewater clarification treatment, coagulants, open, non-disperse | (G) Amphoteric acrylic polymer
P-07-0473 | 06/01/07 | 08/29/07 | CBI | (S) Binder for wood floor lacquers | (G) Dimer fatty acid based polyester polyurethane
P-07-0474 | 06/04/07 | 09/01/07 | Eastman Chemical Company | (S) Molded plastic parts; extruded sheeting | (G) Modified copolyester
P-07-0475 | 05/31/07 | 08/28/07 | Huntsman Corporation | (S) Liquid soap | (S) Decanoic acid, methyl-2-sulfoethyl ester, sodium salt (1:1)
P-07-0476 | 05/31/07 | 08/28/07 | Huntsman Corporation | (S) Liquid soap | (S) Dodecanoic acid, methyl-2-sulfoethyl ester, sodium salt (1:1)
P-07-0477 | 05/31/07 | 08/28/07 | Huntsman Corporation | (S) Liquid soap | (S) Tetradecanoic acid, methyl-2-sulfoethyl ester, sodium salt (1:1)
P-07-0478 | 05/31/07 | 08/28/07 | Huntsman Corporation | (S) Liquid soap | (S) Hexadecanoic acid, methyl-2-sulfoethyl ester, sodium salt (1:1)
P-07-0479 | 05/31/07 | 08/28/07 | Huntsman Corporation | (S) Liquid soap | (S) Fatty acids, C10-16, methyl-2-sulfoethyl esters, sodium salts
P-07-0480 | 06/04/07 | 09/01/07 | Cytec Industries Inc. | (G) Crosslinking resin | (G) Alkylated glycoluril formaldehyde resin
P-07-0481 | 06/05/07 | 09/02/07 | CBI | (G) Ink additive | (G) Phosphonium, tetraaryl-, tetrakis(aryl)borate(1-)
P-07-0482 | 06/05/07 | 09/02/07 | CBI | (G) Lubricant formulation for textile fiber processing. | (G) Pentaerythritol cocoate
P-07-0483 | 06/05/07 | 09/02/07 | CBI | (G) Ink additive | (G) Urethane polymer methacrylate-blocked
P-07-0484 | 06/07/07 | 09/04/07 | CBI | (G) Specialty polyol for in-house manufacturing | (G) Mixed glycol adipate polyester polyol
P-07-0485 | 05/30/07 | 08/27/07 | Fibro Chem LLC | (S) Odor control agent for soft and hard surfaces | (S) Siloxanes and silicones, di-me, 3-hydroxypropyl me, ethers with polyethylene glycol mono(hydrogen succinate), zinc salts
P-07-0486 | 06/08/07 | 09/05/07 | CBI | (G) Emulsifier and dispersant | (G) Copolymer of alkenyl
P-07-0487 | 06/11/07 | 09/08/07 | Cytec Industries Inc. | (G) Resin for paints and coatings | (G) Unsaturated alkylcarboxylic acid, polymers with alkanedioic acid, alkyl alcohols, alkylaldehyde, substituted triazine, substituted carbomonocycle and urea
P-07-0488 | 06/12/07 | 09/09/07 | CBI | (G) Open, non-dispersive use | (G) Pvb derivative
P-07-0489 | 06/11/07 | 09/08/07 | CBI | (G) Additive, open, non-dispersive use | (G) Salt of alkylolaminoamid and ethoxylated alcohols, phosphates
P-07-0490 | 06/11/07 | 09/08/07 | Sasol North America Inc. | (S) Alcohol derivatives - used alone or blended with other alcohols as feedstock for derivation (i.e. ethoxylation, propoxylation, sulfation, sulfonation, esterification etc.); mining flotation aid-direct substitute for hexanol, octanol or decanol PMN substance A and B; metal rolling lubricant - direct sustitute for hexanol, octanol or decanol PMN substance A and B | (S) 1-octanol, manufacture of, distn. lights
P-07-0491 | 06/11/07 | 09/08/07 | Sasol North America Inc. | (S) Alcohol derivatives - used alone or blended with other alcohols as feedstock for derivation (i.e. ethoxylation, propoxylation, sulfation, sulfonation, esterification etc.); mining flotation aid-direct substitute for hexanol, octanol or decanol PMN substance A and B; metal rolling lubricant - direct sustitute for hexanol, octanol or decanol PMN substance A and B | (S) 1-decanol, manufacture of, distn. lights.
P-07-0492 | 06/13/07 | 09/10/07 | CBI | (G) Dispersant for petroleum fraction | (G) Maleic anhydride, polymer with N-tetradec-1-ene,N-hexadec-1-ene and allylmethyl-poly[ethylene glycol], dicocoalkyl-, di[hydrogenated tallow] amide/ammonium salt
P-07-0493 | 06/13/07 | 09/10/07 | Ticona | (S) Fibers | (G) Copolymer of 2,6-naphthalenedicarboxylic acid dialkyl ester and alkylene diol
P-07-0494 | 06/13/07 | 09/10/07 | CBI | (G) Open non-dispersive (adhesive) | (G) Polyurethane
P-07-0495 | 06/14/07 | 09/11/07 | Eastman Kodak Company | (S) Intermediate used in the manufacture of imaging media/products | (G) Amino substituted benzoic acid
P-07-0496 | 06/14/07 | 09/11/07 | Huntsman International LLC | (S) Preparation of pre-impregnated cloth/fiber tapes for aerospace composite articles | (S) Oxiranemethanamine, N-[3-(oxiranylmethoxy)phenyl]-N-(oxiranylmethyl)-
P-07-0497 | 06/15/07 | 09/12/07 | CBI | (S) Antioxidant for plastic articles | (G) Benzenpropanoic acid derivative
P-07-0498 | 06/18/07 | 09/15/07 | CBI | (S) Industrial coatings component; application | (S) 2-propenoic acid, 2-methyl-, butyl ester, polymer with 2-ethylhexyl 2-propenoate, 2-methylpropyl 2-methyl-2-propenoate and 1,2-propanediol mono(2-methyl-2-propenoate), tert-bu 3,5,5-trimethylhexaneperoxoate-initiated
P-07-0499 | 06/18/07 | 09/15/07 | CBI | (S) Industrial coatings component; application | (S) 2-propenoic acid, 2-methyl-, butyl ester, polymer with 2-ethylhexyl 2-propenoate, 2-methylpropyl 2-methyl-2-propenoate and 1,2-propanediol mono(2-methyl-2-propenoate), tert-bu peroxide-initiated
P-07-0500 | 06/19/07 | 09/16/07 | CBI | (S) Prepolymer for polyurethane | (G) Hydroxymodified silicone
P-07-0501 | 06/19/07 | 09/16/07 | CBI | (S) Prepolymer for polyurethane | (G) Hydroxymodified silicone
P-07-0502 | 06/20/07 | 09/17/07 | CBI | (G) Polymeric coating vehicle | (G) Acrylic styrenic acrylamide polyether ammonium salt polymer
P-07-0503 | 06/20/07 | 09/17/07 | CBI | (G) Raw material for the manufacturing of release coatings | (G) Siloxanes and silicones, di-alkyl, hydrogen-terminated, polymers with chlorotrialkylsilane-iso-pr alc.-silicic acid sodium salt reaction products, 2-(7-oxabicyclo[4.1.0]alkyl group- and 2-(trialkylsilyl) alkyl group-terminated
P-07-0504 | 06/20/07 | 09/17/07 | CBI | (G) Coating raw material | (G) Alkenoic acid, hydroxyalkyl ester, polymer with alkyl diisocyanate
P-07-0505 | 06/21/07 | 09/18/07 | CBI | (G) Color dispersant | (G) Acrylic co-polymer
P-07-0506 | 06/21/07 | 09/18/07 | Bedoukian research, Inc. | (S) Chemical intermediate | (G) 12-alkanedecen-10-yn-1-ol, (12Z)-
P-07-0507 | 06/22/07 | 09/19/07 | CBI | (S) Corrosion inhibitor | (G) Oligomeric halogen salt
P-07-0508 | 06/22/07 | 09/19/07 | CBI | (S) Diesel fuel additive | (G) Ethene-vinyl acetate-acrylate-aldehyde modified polymer
P-07-0509 | 06/26/07 | 09/23/07 | Huntsman International, LLC | (S) Exhaust application to cotton fabric | (G) Reactive cyclodextrin derivative
P-07-0510 | 06/26/07 | 09/23/07 | CBI | (S) Resin for automotive coatings | (G) Branched acid functional polyester
P-07-0511 | 06/26/07 | 09/23/07 | CBI | (S) Resin for automotive coatings | (G) Branched acid functional polyester
P-07-0512 | 06/26/07 | 09/23/07 | CBI | (S) Resin for automotive coatings | (G) Branched acid functional polyester
P-07-0513 | 06/26/07 | 09/23/07 | CBI | (S) Resin for automotive coatings | (G) Branched acid functional polyester
P-07-0514 | 06/20/07 | 09/17/07 | Grain processing Corporation | (S) Animal bedding | (S) Palm kernel meal
P-07-0515 | 06/27/07 | 09/24/07 | CBI | (G) Open, non-dispersive use. | (G) Acrylic latex
P-07-0516 | 06/26/07 | 09/23/07 | CBI | (G) Adhesive | (G) Urethane resin
P-07-0517 | 06/28/07 | 09/25/07 | CBI | (G) Paint | (G) Alkyl acrylate, polymer with alkyl acrylates, styrene and hydroxyalkyl acrylates, peroxide-initiated
P-07-0518 | 06/28/07 | 09/25/07 | CBI | (G) Paint | (G) Alkyl acrylate, polymer with alkyl acrylates, strene and hydroxyalkyl acrylates, peroxide-initiated
P-07-0519 | 06/28/07 | 09/25/07 | CBI | (G) Colorant raw material | (G) Aminobenzene
P-07-0520 | 06/28/07 | 09/25/07 | CBI | (G) Colorant raw material | (G) Aminobenzene
P-07-0521 | 06/26/07 | 09/23/07 | CBI | (S) A component of ultraviolet light/ electron beam formulations | (G) Poly[oxy(methyl-1,2-ethanediyl)], .alpha., .alpha.′, .alpha.′′-1,2,3-propanetriyltris[.omega.-hydroxy-, polymer with aliphatic isocyanate, 2-hydroxyethyl acrylate-blocked
P-07-0522 | 06/28/07 | 09/25/07 | CBI | (G) Colorant process intermediate | (G) Carbon black, (3-methylphenyl)-modified, substituted
P-07-0523 | 06/28/07 | 09/25/07 | CBI | (G) Colorant process intermediate | (G) Carbon black, (4-methylphenyl)-modified, substituted
P-07-0524 | 06/29/07 | 09/26/07 | CBI | (S) Chemical intermediate | (G) Dialkyl methyl amine
P-07-0525 | 06/29/07 | 09/26/07 | CBI | (G) Processing aid | (G) Fatty acids, hydrogenated, reaction products with tetraethylenepentamine, aliphatic carboxylate
P-07-0526 | 07/02/07 | 09/29/07 | CBI | (S) Laminating adhesive | (G) Acrylated-capped polyester polyether polyurethane
P-07-0527 | 07/02/07 | 09/29/07 | CBI | (G) Lubricant additive | (G) Organic acid phosphate
P-07-0528 | 07/02/07 | 09/29/07 | CBI | (G) Coating resin for open, non-dispersive use | (G) Acrylated polyurethane
P-07-0529 | 07/03/07 | 09/30/07 | CIBA Specialty Chemicals Corporation | (S) Coating systems rheology modifier | (G) 2-propenoic acid, 2-methyl-, telomer with 1-alkylthiol, alkyl 2-propenoate and alkyl 2-methyl-2-propenoate, ammonium salt
P-07-0530 | 07/02/07 | 09/29/07 | The Dow Chemical Company | (S) Polymer intermediate for coatings, adshesives, and elastomers | (G) Diol initiated polymer with fatty acids methyl esters hydroformylation products, hydrogenated
P-07-0531 | 07/02/07 | 09/29/07 | The Dow Chemical Company | (S) Polymer intermediate for coatings, adshesives, and elastomers | (G) Diol initiated polymer with fatty acids methyl esters hydroformylation products, hydrogenated
P-07-0532 | 07/02/07 | 09/29/07 | The Dow Chemical Company | (S) Polymer intermediate for coatings, adshesives, and elastomers | (G) Diol initiated polymer with fatty acids methyl esters hydroformylation products, hydrogenated
P-07-0533 | 07/02/07 | 09/29/07 | The Dow Chemical Company | (S) Polymer intermediate for coatings, adshesives, and elastomers | (G) Diol initiated polymer with fatty acids methyl esters hydroformylation products, hydrogenated
P-07-0534 | 07/02/07 | 09/29/07 | The Dow Chemical Company | (S) Polymer intermediate for coatings, adshesives, and elastomers | (G) Diol initiated polymer with fatty acids methyl esters hydroformylation products, hydrogenated
P-07-0535 | 07/02/07 | 09/29/07 | The Dow Chemical Company | (S) Polymer intermediate for coatings, adshesives, and elastomers | (G) Diol initiated polymer with fatty acids methyl esters hydroformylation products, hydrogenated
P-07-0536 | 07/03/07 | 09/30/07 | CBI | (S) Improver for the viscosity index and the low temperature fluidity of driveline oils | (G) Aromatic hydrogenated poly alkyldiene containing poly alkyl methacrylate
P-07-0537 | 07/03/07 | 09/30/07 | CBI | (G) Chemical intermediate | (G) Alkanenitrile, bis(cyanoalkyl)amino
P-07-0538 | 07/05/07 | 10/02/07 | CBI | (G) Water repellant additive | (G) Organic tallate salt
P-07-0539 | 07/05/07 | 10/02/07 | CBI | (G) For use as an exterior coating for aluminum “easy open ends” for the beer and bevearge can market | (G) Epoxy acrylic resin
P-07-0540 | 07/06/07 | 10/03/07 | CBI | (G) Barrier film for plastic articles | (G) Modified ethylene-vinyl alcohol (evoh) polymer
P-07-0541 | 07/09/07 | 10/06/07 | CBI | (G) Pigment dispersant | (G) Polyurethane derivative
P-07-0542 | 07/09/07 | 10/06/07 | CBI | (G) Base material for industrial fluids and lubricants | (G) Mixed polyol - gylcerol fatty acid ester
P-07-0543 | 07/09/07 | 10/06/07 | CBI | (G) Base material for industrial fluids and lubricants | (G) Mixed polyol - gylcerol fatty acid ester
P-07-0544 | 07/09/07 | 10/06/07 | CBI | (G) Base material for industrial fluids and lubricants | (G) Mixed polyol - gylcerol fatty acid ester
P-07-0545 | 07/09/07 | 10/06/07 | CBI | (G) Base material for industrial fluids and lubricants | (G) Mixed polyol - gylcerol fatty acid ester
P-07-0546 | 07/09/07 | 10/06/07 | CBI | (G) Base material for industrial fluids and lubricants | (G) Mixed polyol - gylcerol fatty acid ester
P-07-0547 | 07/09/07 | 10/06/07 | CBI | (G) Base material for industrial fluids and lubricants | (G) Mixed polyol - gylcerol fatty acid ester
P-07-0548 | 07/09/07 | 10/06/07 | CBI | (G) Open non-dispersive (binder) | (G) Aliphatc polyurethane resin
P-07-0549 | 07/09/07 | 10/06/07 | Cytec Industries Inc. | (G) Mining Chemical reagent | (G) Substituted alkenoic acid, ester, polymer with alkenamide, hydrolyzed, metal salts
P-07-0550 | 07/10/07 | 10/07/07 | CBI | (S) Solder mask for printed circuit board preparation | (G) 2-propenoic acid, 2-methyl-, polymer with 2-methyl-2-propenoate, a modified hydroxy alkenyl ester, and an aromatic alkenyl ester, 2-propenoate, initiated
P-07-0551 | 07/10/07 | 10/07/07 | CBI | (S) Solder mask for printed circuit board preparation | (G) Propanoic acid, 3-hydroxy-2-(hydroxymethyl)-2-methyl-, polymer with alkyl polyol, a cyloaliphatic isocyanate and a modified alkyl ester
P-07-0552 | 07/09/07 | 10/06/07 | CBI | (G) Open non dispersive (adhesive) | (G) Polyurethane
P-07-0553 | 07/10/07 | 10/07/07 | J.M. Huber Corporation | (S) Flame retardant | (G) magnesium trihydrate surface treated
P-07-0554 | 07/11/07 | 10/08/07 | CBI | (G) Compressor lubricant | (G) Fatty acid ester, alcohol alkoxylate
P-07-0555 | 07/11/07 | 10/08/07 | CBI | (G) Ink additive | (G) Phosphonium, teraaryl-, tetrakis(aryl)borate(1-)
P-07-0556 | 07/11/07 | 10/08/07 | Cytec Industries Inc. | (G) Coating resin additive | (G) Substituted epoxy resin
P-07-0557 | 07/16/07 | 10/13/07 | CBI | (G) Industrial coating | (G) Urethane acrylate
P-07-0558 | 06/29/07 | 09/26/07 | CBI | (G) Coating resin for open, non-dispersive use | (G) Acrylated polyester urethane
P-07-0559 | 07/16/07 | 10/13/07 | CBI | (G) Rubber production | (G) Tetrakis(2-ethylhexyl)thiuram disulfide
P-07-0560 | 07/17/07 | 10/14/07 | Kaneka Texas Corporation | (S) Industrial adhesive for automotive industry; industrial adhesive for construction industry; industrial adhesive for electronics industry | (G) Acrylate modified acrylonitrile, gutadiene styrene polymer
P-07-0561 | 07/17/07 | 10/14/07 | CBI | (G) An open, non-dispersive use | (G) Metal salt of styrene - acrylic copolymer
P-07-0562 | 07/18/07 | 10/15/07 | Three Bond International, Inc. | (G) Bolt coating adhesive (open, non-dispersive use) | (G) 2,6-xylidine, 4,4′-methylenedi-
P-07-0563 | 07/23/07 | 10/20/07 | Cogins Pleochemicals LLC | (S) Emulsifier for oil-mud drilling fluids | (G) Fatty acid maleic acid amide
P-07-0564 | 07/23/07 | 10/20/07 | Cogins Oleochemicals LLC | (S) Emulsifier for oil-mud drilling fluids | (G) Fatty acid maleic acid amide
P-07-0565 | 07/23/07 | 10/20/07 | CBI | (G) Additive, open, non-dispersive use | (G) Polyester polyether urethane block copolymer
P-07-0566 | 07/23/07 | 10/20/07 | CBI | (G) Additive, open, non-dispersive use | (G) Polyester polyether urethane block copolymer
P-07-0567 | 07/23/07 | 10/20/07 | CBI | (G) Additive, open, non-dispersive use | (G) Polyester polyether urethane block copolymer
P-07-0568 | 07/23/07 | 10/20/07 | CBI | (G) Pigment additive for industrial coatings and ink manufacture and for plastics compounding | (G) Naphthalenesulfonic acid, [(chloro-methyl-sulfophenyl) diazenyl]-hydroxy-metal salt
P-07-0569 | 07/24/07 | 10/21/07 | Henkel Corporation | (S) A polymerizable component in industrial adhesive/sealant formulations | (S) Siloxanes and silicones, di-me, me [(2-methyl-1-oxo-2-propen-1-yl)oxy]methyl, [(methoxymethyl[[(2-methyl-1-oxo-2-propen-1-yl)oxy]methyl)silyl]oxy]-terminated
P-07-0570 | 07/24/07 | 10/21/07 | CBI | (G) Barrier film for plastics articles | (G) Modified ethylene-vinyl alcohol (evoh) polymer
P-07-0571 | 07/24/07 | 10/21/07 | CBI | (G) Pigment additive for industrial coatings and ink manufacture and for plastics compounding | (G) [[[[(methoxyphenyl)amino]carbonyl]-oxopropyl]diazenyl]-benzoic acid
P-07-0572 | 07/24/07 | 10/21/07 | Lg Chem America, Inc. | (S) Plasticiser in pvc molded products | (S) Hexanoic acid, 2-ethyl-, mixed diesters with benzoic acid triethylene glycol
P-07-0573 | 07/24/07 | 10/21/07 | Colonial Chemical, Inc. | (S) Hard surface cleaner in high caustic solutions | (S) D-glucopyranose, oligomeric, decyl octyl glycosides, 2-hydroxy-3-sulfopropyl ethers, sodium salts
P-07-0574 | 07/24/07 | 10/21/07 | Colonial Chemical, Inc. | (S) Hard surface cleaner in high caustic solutions | (S) D-glucopyranose, oligomeric, C10-16-alkyl glycosides, 2-hydroxy-3-sulfopropyl ethers, sodium salts
P-07-0575 | 07/25/07 | 10/22/07 | CBI | (S) Hotmelts for automotive industry; hotmelts for the woodworking industry | (G) Polyester of alkanedioic acid and alkanediol
P-07-0576 | 07/25/07 | 10/22/07 | Dupont Company | (G) Polymer adhesive and article | (G) Hexafluoropropylene-perfluoro (alkyl vinyl ether)-tetrafluoroethylene copolymer
P-07-0577 | 07/25/07 | 10/22/07 | Inolex Chemical Company | (G) Reactant for polymers, open non-dispersive use | (G) Carbomonocyclic dicarboxylic acid, polymer with 2,2′-oxybis
P-07-0578 | 07/26/07 | 10/23/07 | Inolex Chemical Company | (G) Reactant for polymers, open non-dispersive use | (G) Carbomonocyclic dicarboxylic acid, polymer with 2-ethyl-2-hydroxymethyl-1,3-propanediol and 1,6-hexanediol
P-07-0579 | 07/26/07 | 10/23/07 | Degussa Corporation | (S) Organic pigment for printer toner cartridges | (S) Benzenamine, homopolymer, cyclized, quaternized, hydrochlorides sulfates
P-07-0580 | 07/26/07 | 10/23/07 | CBI | (G) Detergent component | (G) Stilbene containing diaromatic nitrile
P-07-0581 | 07/27/07 | 10/24/07 | CBI | (G) Chelating resin | (G) Iminodiacetic acid type chelating resin
P-07-0582 | 07/27/07 | 10/24/07 | CBI | (G) Chelating resin | (G) Iminodiacetic acid type chelating resin
P-07-0583 | 07/27/07 | 10/24/07 | CBI | (G) Chromatographic separation material | (G) Special ligand type ion exchange resin
P-07-0584 | 07/30/07 | 10/27/07 | Genencor, a Danisco Division | (S) Textile chemical formulation (TCF) of denim bleaching products; laundry denim bleaching and/or modification of the cast of denim | (S) 4-hydroxy-3,5-dimethoxybenzamide (syringamide)
P-07-0585 | 07/30/07 | 10/27/07 | Genencor, a Danisco Division | (S) Textile chemical formulation (TCF) of denim bleaching products; laundry denim bleaching and/or modification of the cast of denim | (S) Laccase
P-07-0586 | 07/31/07 | 10/28/07 | Gelest, Inc. | (S) Automotive part coating; research | (S) Silane, dichlorodimethyl-, homopolymer
P-07-0587 | 08/01/07 | 10/29/07 | CBI | (G) Chemical intermediate | (G) N,N-dialkylalkylamine
P-07-0588 | 08/01/07 | 10/29/07 | CBI | (G) Chemical intermediate | (G) Alkyl nitrile
P-07-0589 | 08/01/07 | 10/29/07 | CBI | (G) Paint additive | (G) Substituted dibasic ester
P-07-0590 | 08/01/07 | 10/29/07 | CBI | (G) Paint additive | (G) Substituted dibasic ester
P-07-0591 | 08/01/07 | 10/29/07 | CBI | (G) Paint additive | (G) Substituted dibasic ester
P-07-0592 | 08/01/07 | 10/29/07 | CBI | (G) Paint additive | (G) Substituted dibasic ester
P-07-0593 | 08/01/07 | 10/29/07 | CBI | (G) Paint additive | (G) Substituted dibasic ester
P-07-0594 | 08/01/07 | 10/29/07 | CBI | (G) Chemical intermediate | (G) N,N,N-trialkylalkylamine chloride
P-07-0595 | 08/01/07 | 10/29/07 | CBI | (G) Enclosed destructive use as process reactant. | (G) N,N,N-trialkyalkylamine acetate
P-07-0596 | 07/30/07 | 10/27/07 | Conocophillips | (S) Diesel fuel component/transportation fuel | (S) Distillates, hydrocracked tallow, C9-20
P-07-0597 | 08/01/07 | 10/29/07 | CBI | (G) Contained use in energy production. | (G) Polyacrylate salt
P-07-0598 | 08/01/07 | 10/29/07 | CBI | (G) Modifier for electronic material | (G) Carboxylated nitrile rubber
P-07-0599 | 08/01/07 | 10/29/07 | 3m | (G) Production of polmers | (G) Aromatic acrylate monomer
P-07-0600 | 08/01/07 | 10/29/07 | Cytec Industries Inc. | (S) Hardener for water-thinable paints | (G) Substituted epoxy resin
P-07-0601 | 08/02/07 | 10/30/07 | CBI | (G) Refrigerant for mobile air conditioning | (G) Hydrofluorolefin

In Table II of this unit, EPA provides the following information (to the extent that such information is not claimed as CBI) on the TMEs received:

II. 7 Test Marketing Exemption Notices Received From: 4/27/07 to 08/03/07
Case No. | Received Date | Projected Notice End Date | Manufacturer/Importer | Use | Chemical
T-07-0013 | 05/18/07 | 07/01/07 | Cytec Industries Inc. | (S) Wetting agent for industrial coatings | (G) Substituted heterocycle, polymer with diisocyanate, substituted cyclic diamine and substituted heterocycle, alkyl ester
T-07-0014 | 06/11/07 | 07/25/07 | Cytec Industries Inc. | (G) Resin for paints and coatings | (G) Unsaturated alkylcarboxylic acid, polymers with alkanedioic acid, alkyl alcohols, alkylaldehyde, substituted triazine, substituted carbomonocycle and urea
T-07-0015 | 06/18/07 | 08/01/07 | Forbo Adhesives, LLC | (G) Hot melt adhesive | (G) Isocyanate functional polyester urethane polymer
T-07-0016 | 07/09/07 | 08/22/07 | Cytec Industries Inc. | (G) Mining Chemical reagent | (G) Substituted alkenoic acid, ester, polymer with alkenamide, hydrolyzed, metal salts
T-07-0017 | 07/12/07 | 08/25/07 | Cytec Industries Inc. | (G) Coating resin additive | (G) Substituted epoxy resin
T-07-0018 | 07/27/07 | 09/09/07 | S.C. Johnson and Son, Inc. | (G) Non dispersive use | (G) Hydrolyzed cellulosic ether
T-07-0019 | 08/01/07 | 09/14/07 | Cytec Industries Inc. | (S) Hardener for water-thinable paints | (G) Substituted epoxy resin

In Table III of this unit, EPA provides the following information (to the extent that such information is not claimed as CBI) on the Notices of Commencement to manufacture received:

III. 126 Notices of Commencement From: 4/27/07 to 08/03/07
Case No. | Received Date | Commencement Notice End Date | Chemical
J-07-0001 | 05/09/07 | 05/03/07 | (G) T. Reesei strain
P-01-0147 | 06/12/07 | 06/10/07 | (G) Epoxylated nitrile rubber
P-01-0405 | 05/25/07 | 05/11/07 | (G) Saccharide
P-01-0406 | 05/25/07 | 05/11/07 | (G) Saccharide
P-02-0135 | 07/11/07 | 06/14/07 | (S) 2(1H)-pyrimidinone, tetrahydro-1,3-dimethyl-
P-03-0373 | 07/19/07 | 06/29/07 | (G) Poluyurea isocyanate prepolymer
P-03-0522 | 06/12/07 | 05/30/07 | (G) Octa-alkyl ethylenediamine tetraacetamide
P-03-0576 | 07/16/07 | 06/26/07 | (G) Styrenated hydrocarbon resin, hydrogenated
P-04-0010 | 07/31/07 | 07/06/07 | (G) Salicylic acid compound
P-04-0132 | 04/27/07 | 04/19/07 | (G) Ethylhexyl oxetane
P-04-0174 | 07/18/07 | 07/10/07 | (G) Fluoroacrylate modified urethane
P-04-0176 | 07/18/07 | 07/10/07 | (G) Fluorinated oligomer alcohol
P-04-0547 | 05/11/07 | 12/07/05 | (G) Epoxy monomer
P-04-0883 | 07/09/07 | 07/03/07 | (G) Quaternary amino modified silicone-polyether copolymer
P-04-0949 | 05/25/07 | 05/15/07 | (G) Organic acids aluminum complexes
P-05-0043 | 06/19/07 | 06/11/07 | (G) Copper phthalocyanine sulfonic acid salt
P-05-0067 | 06/07/07 | 05/17/07 | (G) Fatty acids dimers, polymer with alkoxylated phenol, hydroxy ester acrylate, cyclohexyl isocyanate and cyclic carboxylic acid
P-05-0158 | 06/19/07 | 05/05/07 | (G) Ammonium-functional methacrylate-styrene copolymer
P-05-0212 | 05/01/07 | 04/19/07 | (G) Maleic acid, sodium allyl sulphonate copolymer sodium salt
P-05-0251 | 06/07/07 | 05/15/07 | (G) Hydroxy aromatics, polymer with fluorinated aromatics
P-05-0264 | 07/27/07 | 07/13/07 | (G) Amine functional epoxy resin salted with organic acid
P-05-0418 | 05/22/07 | 05/04/07 | (S) Hexanoic acid, 6,6′,6′′-(1,3,5-triazine-2,4,6-triyltriimino) tris-, compound with 2-aminoethanol
P-05-0458 | 05/07/07 | 04/04/07 | (G) Polyetherimide made using substituted phthalic anhydride and diamine
P-05-0756 | 05/22/07 | 05/02/07 | (G) Polypiperidinamino derivative
P-05-0791 | 06/26/07 | 05/23/07 | (G) Quaternary copolymer
P-06-0026 | 07/20/07 | 06/29/07 | (G) Aromatic urethane acrylate oligomer
P-06-0121 | 07/23/07 | 06/20/07 | (G) Modified acrylonitrile-butadiene polymer
P-06-0128 | 06/11/07 | 05/31/07 | (G) Iron-based organic complex
P-06-0239 | 04/30/07 | 03/25/07 | (G) Emulsified waterborn polyamine hardner
P-06-0367 | 05/02/07 | 04/02/07 | (G) Fluoroelastomer
P-06-0453 | 07/02/07 | 06/23/07 | (G) Modified polylolefin
P-06-0454 | 05/29/07 | 08/02/06 | (G) Modified phenol resin
P-06-0455 | 05/29/07 | 08/02/06 | (G) Modified phenol resin
P-06-0528 | 07/23/07 | 07/13/07 | (S) Fatty acids, coco, hydrogenated, methyl-2-sulfoethyl esters, sodium salts
P-06-0556 | 06/29/07 | 06/15/07 | (G) Polyoxyalkylenesilane
P-06-0557 | 06/29/07 | 06/12/07 | (G) Silane hydride
P-06-0558 | 06/29/07 | 06/08/07 | (G) Chlorosilane
P-06-0586 | 07/26/07 | 06/20/07 | (G) Fluoroalkyl methacrylate copolymer
P-06-0603 | 05/29/07 | 10/12/06 | (G) Alkylether alkenoate
P-06-0610 | 06/11/07 | 05/31/07 | (G) Dimethyl terephthalate alkanediol copolymer
P-06-0613 | 05/23/07 | 04/20/07 | (S) 1H-3H-benzo[1,2-C:4,5-C′]difuran-1,3,5,7-tetrone, polymer with 5,5′-carbonylbis[1,3-isobenzofurandione], 1,3-diisocyanatomethylbenzene and 4,4′-oxybis[benzenamine]
P-06-0622 | 07/16/07 | 07/10/07 | (S) 1,2-ethanediol, monocarbamate
P-06-0635 | 05/23/07 | 04/09/07 | (S) 6,10-dodecadien-1-ol, 3,7,11-trimethyl-
P-06-0659 | 06/11/07 | 05/11/07 | (G) Macrocyclic lactone derivative salt
P-06-0660 | 06/11/07 | 05/11/07 | (G) Macrocyclic lactone derivative
P-06-0689 | 05/18/07 | 05/02/07 | (G) Alkyl amino substituted triazine amino substituted benzenesulfonic acid reaction product with naphthalenesulfonato azo substituted phenyl azo substituted benzenedisulfonic acid copper compound
P-06-0693 | 07/18/07 | 07/02/07 | (G) Alkyl dimethyl betaine
P-06-0707 | 07/12/07 | 05/25/07 | (G) Alkanoic acid, hydroxy-, compd with [[[[(alkylamino)alkyl]amino]heterocycle][(hydro-oxo-benzimidazolyl)azo]hydroxy-carbopolycyclesulfonic acid
P-06-0747 | 07/17/07 | 06/25/07 | (G) [N-(alkylbenzyl)-N,N-dimethylanilinium] [(halomethylsulfonyl)imide)]
P-06-0754 | 06/06/07 | 05/30/07 | (G) Propylene glycol mono fatty acid ester
P-06-0771 | 07/09/07 | 06/06/07 | (G) Fatty acids, methyl esters, hydroformylation products
P-06-0775 | 07/09/07 | 06/20/07 | (G) Fatty acids methyl esters hydroformylation products, hydrogenated
P-06-0791 | 06/11/07 | 06/04/07 | (G) Polyamide
P-06-0798 | 06/11/07 | 06/01/07 | (G) Substituted alkenoic acid, polymer with substituted carbomonocycle, alkenoate, alkenoic acid and substituted polycycle, peroxide-initiated
P-06-0809 | 05/09/07 | 04/18/07 | (G) Amine modified acrylic ester
P-06-0811 | 06/08/07 | 05/17/07 | (G) Substituted bicyclic olefin
P-07-0024 | 06/19/07 | 05/27/07 | (G) Alkylamine ethoxylated
P-07-0051 | 06/06/07 | 05/29/07 | (G) Polyethylene glycol ether acid
P-07-0052 | 05/09/07 | 04/23/07 | (G) Benzenesulfonic acid azo benzenesulfonic acid azo substituted naphthalenesulfonic acid amino substituted triazine amino substituted phenyl sulfonyl compound
P-07-0053 | 06/14/07 | 06/07/07 | (G) Oils, watermelon, citrullus lanatus
P-07-0054 | 06/12/07 | 05/10/07 | (S) Hexanedioic acid, polymer with 1,3-diisocyanatomethylbenzene and 3-methyl-1,5-pentanediol, propylene gylcol monomethacrylate-blocked
P-07-0055 | 05/25/07 | 05/22/07 | (G) 2-(dimethylamino)ethyl methyl-2-propanoate, polymer with alkyl-substituted methyl-2-propanoate and aryl-substituted methyl-2-propanoate, salt with mono(alkyl-substituted polyalkoxyether)butanedioates and alkyl-substituted polyalkoxyether phosphate
P-07-0056 | 05/03/07 | 04/10/07 | (G) Modified polyacrylate block polymer
P-07-0065 | 07/06/07 | 06/28/07 | (G) Isocyanate terminated urethane polymer
P-07-0075 | 05/16/07 | 04/20/07 | (G) Acrylic polymer with vinyl compound, salt
P-07-0102 | 05/18/07 | 05/02/07 | (G) Substituted phenyl amino substituted triazine reaction product with naphthalenesulfonic acid azo naphthalenesulfonic acid amino substituted triazine amino alkyl compound
P-07-0103 | 05/01/07 | 04/13/07 | (G) Substituted benzene sulfonic acid, salt reaction product with phenylamine and amino alcohol and substituted propaneamide compounds with amino alcohol
P-07-0108 | 05/08/07 | 04/15/07 | (G) 1,1-diacidsubstituted -4-aminobutanol, monosodium salt
P-07-0117 | 05/30/07 | 05/25/07 | (G) Acrylated aliphatic polyurethane
P-07-0133 | 06/07/07 | 05/17/07 | (G) Polymer with carboxylic acid ester
P-07-0134 | 06/07/07 | 05/17/07 | (G) Isocyanate compound with polyurethane polyol (provisional)
P-07-0135 | 06/07/07 | 05/17/07 | (G) Polymer with carboxylic acid ester
P-07-0136 | 06/07/07 | 05/17/07 | (G) Polymer with carboxylic acid ester
P-07-0137 | 06/07/07 | 05/17/07 | (G) Polymer with carboxylic acid ester
P-07-0139 | 06/04/07 | 05/24/07 | (G) Ether alkanol
P-07-0141 | 05/07/07 | 04/02/07 | (G) Succinoyl phenylhydrazide
P-07-0149 | 05/07/07 | 04/24/07 | (S) 1,4-cyclohexanedicarboxylic acid, polymer with 1,4-cyclohexanedimethanol and 2,5-furandione, reaction products with glycidyl neodecanoate and polyethylene-polypropylene glycol 2-aminopropyl me ether
P-07-0159 | 05/09/07 | 04/17/07 | (G) Perfluoropolyether compound
P-07-0163 | 05/07/07 | 04/30/07 | (G) Fatty acids, C18-unsatd., dimers, polymers with bisphenol A, polyalkylene glycol diglycidyl ether and alkylene oxide
P-07-0164 | 06/20/07 | 06/15/07 | (G) Substituted phenyl amino substituted triazine reaction product with naphthalenesulfonic acid azo substituted phenyl substituted naphthalenesulfonic acid amino compound
P-07-0166 | 06/11/07 | 05/28/07 | (G) Polester acrylate resin
P-07-0167 | 07/25/07 | 07/12/07 | (G) Substituted carbomonocycles, polymer with substituted glycols and alkyldioic acid
P-07-0169 | 07/03/07 | 06/24/07 | (G) Isocyanate-functional polyurethane
P-07-0183 | 07/09/07 | 06/04/07 | (G) Sma ester
P-07-0188 | 07/09/07 | 06/04/07 | (G) Sma ester ammonium salt solution
P-07-0190 | 05/04/07 | 04/27/07 | (G) Methyl methacrylate, acrylate copolymer
P-07-0192 | 05/30/07 | 05/23/07 | (G) Polyethyleneimine polyester copolymer
P-07-0193 | 05/11/07 | 05/08/07 | (G) Formaldehyde, polymer with substituted carbomonocycles, alkyl ether
P-07-0194 | 05/07/07 | 04/22/07 | (G) Polyalkoxylated aromatic colorant
P-07-0198 | 07/25/07 | 06/29/07 | (G) Surface modified ceramic particles
P-07-0199 | 05/15/07 | 05/09/07 | (G) Alkenoic acid alkyl esters, polymer with substituted carbomonocycle, substituted epoxy alkyl ester compound with substituted amine
P-07-0200 | 06/26/07 | 05/29/07 | (S) Ethanaminium, 2-hydroxy-N,N-bis (2-hydroxyethyl)-N-methyl-, esters with C12-20 fatty acids, me sulfates (salts)
P-07-0202 | 07/05/07 | 06/14/07 | (G) Fluorinated alcohol
P-07-0203 | 07/05/07 | 06/18/07 | (G) Fluorinated alkenyl ether
P-07-0205 | 05/29/07 | 05/21/07 | (G) Branched alkylamide, N-ethylhexyl
P-07-0218 | 05/21/07 | 05/07/07 | (S) 3-cyclooctene-1-methanol, .alpha.-ethyl-
P-07-0226 | 07/25/07 | 06/22/07 | (G) Mono-me ether blocked methylenediphenyl diisocyanate polyurethane polymer with polyoxypropylene diamine
P-07-0227 | 06/29/07 | 06/25/07 | (G) Polyethyleneglycol diacrylate, modified
P-07-0229 | 07/05/07 | 06/08/07 | (G) Sulfonated copolyester
P-07-0232 | 06/15/07 | 05/10/07 | (G) Polyester copolymer
P-07-0235 | 06/06/07 | 05/30/07 | (G) Tri-(substituted azo benzenesulfonic acid)- M- phelylenediamine, sodium salts
P-07-0236 | 06/18/07 | 05/15/07 | (G) menthyl methyl ether
P-07-0247 | 05/31/07 | 05/22/07 | (G) Fatty acid modified polyester resin
P-07-0254 | 05/22/07 | 05/16/07 | (G) Organosilane derivative
P-07-0255 | 06/05/07 | 05/24/07 | (G) Phosphoric acid, alkylester, compound with morpholine
P-07-0256 | 07/25/07 | 06/21/07 | (G) Mono-me ether blocked methylenediphenyl diisocyanate polyurethane polymer
P-07-0259 | 05/30/07 | 05/24/07 | (G) Silicone polyether copolymer
P-07-0262 | 06/04/07 | 05/23/07 | (G) Linolal
P-07-0263 | 06/11/07 | 05/28/07 | (G) Bis[(substituted)phenyl]-dihydro-pyrrolo[substituted]pyrrole-dione
P-07-0264 | 06/12/07 | 05/30/07 | (G) Isocyanic acid, polymethylenepolyphenylene ester, polymer with (chloromethyl)oxirane, 4,4′-(1-methylethylidene)bis[phenol] and .alpha.,.alpha.′-[(1-methylethylidene)di-4,1-phenylene]bis[.omega.-hydropoly(oxy-1,2-ethanediyl)], 2-ethylhexanoate, reaction products substituted ethanols and diethylenetriamine
P-07-0269 | 07/18/07 | 06/14/07 | (G) Phosphoramidic acid, carbomonocyclic-,diphenylester
P-07-0270 | 06/11/07 | 05/29/07 | (G) Polyesterurethane resin
P-07-0271 | 06/11/07 | 05/29/07 | (G) Polyurethanesilicone resin
P-07-0284 | 06/19/07 | 06/06/07 | (G) Alkyl silicone resin
P-07-0295 | 07/25/07 | 07/17/07 | (G) Fatty acid polymer with aliphatic diol and aromatic diacid
P-07-0302 | 07/16/07 | 06/18/07 | (G) Polyester resin
P-07-0305 | 07/05/07 | 06/21/07 | (G) Dicarboxylic acid, aminoalkanoic acid and polyether copolymer
P-07-0319 | 07/23/07 | 06/26/07 | (G) Alkylaminoalcohol
P-07-0326 | 07/23/07 | 07/11/07 | (G) Polyurethane
P-07-0330 | 07/25/07 | 07/03/07 | (G) Surface modified ceramic materials and wares, chemicals
P-07-0360 | 07/17/07 | 07/09/07 | (G) Phytase
P-07-0368 | 07/31/07 | 07/23/07 | (G) Phenol, substituted-, polymer with substituted oxirane and substituted thiol
P-07-0375 | 07/19/07 | 07/13/07 | (G) Aluminum trihydrate surface treated
P-07-0396 | 07/30/07 | 07/25/07 | (S) 1,3-propanediaminium, 2-hydroxy-N,N′-bis(2-hydroxyethyl)-N,N,N′,N′-tetramethyl-, dichloride
P-92-1370 | 07/25/07 | 06/25/07 | (G) Polymer of alkylene oxides, alkyl dicarboxylic acid, and alkyliminobisethanol
P-94-0594 | 07/18/07 | 05/31/94 | (S) Phenol, 2-(4,6-diphenyl-1,3,5-triazin-2-yl)-5-(hexyloxy)-
P-95-1644 | 06/29/07 | 06/21/07 | (S) A binary mixture of impurities: 2,9,11,13,15,22,24,26,27,28-decaazatricyclo[21.3.1.1(10,14)]octacosa-1(27),10,12,14(28),23,25-hexaene-12,25-diamine, N,N′-bis(1,1,3,3-tetramethylbutyl)-2,9,15,22-tetrakis(2,2,6,6-tetramethyl-4-piperidinyl)-(9ci);2,9,11,13,14-pentaazabicyclo[8.3.1]tetradeca-1(14),10,12-trien-12-amine, N-(1,1,3,3-tetramethylbutyl)-2,9-bis(2,2,6,6-tetramethyl-4-piperidinyl)-(9ci)

List of Subjects

Environmental protection, Chemicals, Premanufacturer notices.

Dated: August 9, 2007.
Todd S. Holderman,
Acting Director, Information Management Division, Office of Pollution Prevention and Toxics.

[FR Doc. E7-16318 Filed 8-21-07; 8:45 am]

BILLING CODE 6560-50-S